DEPARTMENT OF COMMERCE

Patent and Trademark Office

Agency Information Collection Activities; Submission to the Office of Management and Budget (OMB) for Review and Approval; Comment Request; Recording Assignments

AGENCY: United States Patent and Trademark Office, Department of Commerce.

ACTION: Notice of information collection; request for comment.

SUMMARY: The United States Patent and Trademark Office (USPTO), in accordance with the Paperwork Reduction Act of 1995, invites comments on the extension and revision of an existing information collection: 0651-0027 (Recording Assignments). The purpose of this notice is to allow 60 days for public comment preceding submission of the information collection to OMB.

DATES: To ensure consideration, comments regarding this information collection must be received on or before June 15, 2021.

ADDRESSES: Interested persons are invited to submit written comments by any of the following methods. Do not submit Confidential Business Information or otherwise sensitive or protected information:

• Email: InformationCollection@uspto.gov. Include “0651-0027 comment” in the subject line of the message.

• Federal Rulemaking Portal: http://www.regulations.gov.

• Mail: Kimberly Hardy, Office of the Chief Administrative Officer, United States Patent and Trademark Office, P.O. Box 1450, Alexandria, VA 22313-1450.

FOR FURTHER INFORMATION CONTACT: Requests for additional information should be directed to Joyce R. Johnson, Manager, Assignment Division, Mail Stop 1450, United States Patent and Trademark Office, P.O. Box 1450, Alexandria, VA 22313-1450; by telephone at 703-756-1265; or by email to Joyce.Johnson@uspto.gov with “0651-0027 comment” in the subject line. Additional information about this information collection is also available at http://www.reginfo.gov under “Information Collection Review.”

SUPPLEMENTARY INFORMATION:

I. Abstract

This collection of information is required by 35 U.S.C. 261 and 262 for patents and 15 U.S.C. 1057 and 1060 for trademarks. These statutes authorize the United States Patent and Trademark Office (USPTO) to record patent and trademark assignment documents, including transfers of properties (i.e., patents and trademarks), liens, licenses, assignments of interest, security interests, mergers, and explanations of transactions or other documents that record the transfer of ownership of a particular patent or trademark property from one party to another. Assignments are recorded for applications, patents, and trademark registrations.

The USPTO administers these statutes through 37 CFR 2.146, 2.171, and 37 CFR 3. These regulations permit the public, corporations, other federal agencies, and Government-owned or Government-controlled corporations to submit patent and trademark assignment documents and other documents related to title transfers to the USPTO to be recorded. In accordance with 37 CFR 3.54, the recording of an assignment document by the USPTO is an administrative action and not a determination of the validity of the document or of the effect that the document has on the title to an application, patent, or trademark.

In order to record an assignment document, the respondent must submit an appropriate cover sheet along with copies of the assignment document to be recorded. Once the assignment documents are recorded, they are available for public inspection. The public uses these records to conduct ownership and chain-of-title searches. The public may view these records either at the USPTO Public Search Facility or at the National Archives and Records Administration, depending on the date they were recorded. The public may also search patent and trademark assignment information online through the USPTO website. The only exceptions are those documents that are sealed under secrecy orders according to 37 CFR 3.58 or related to unpublished patent applications maintained in confidence under 35 U.S.C. 122 and 37 CFR 1.14.

This information collection covers assignments submitted by paper and online through the use of the Electronic Patent Assignment System (EPAS) and the Electronic Trademark Assignment System (ETAS). The electronic systems allow customers to complete the required cover sheet information online using web-based forms and then attach the electronic assignment documents to be submitted for recordation. The electronic systems are available through the USPTO website at https://epas.uspto.gov/ and https://etas.uspto.gov/.

II. Method of Collection

The items in this information collection can be submitted electronically through EPAS or ETAS, or on paper by mail, facsimile, or hand delivery to the USPTO.

III. Data

OMB Number: 0651-0027.

Form Numbers:

• PTO-1594 (Trademark Assignment Recordation Cover Sheet)

• PTO-1595 (Patent Assignment Recordation Cover Sheet)

Type of Review: Extension and revision of a currently approved information collection.

Affected Public: Private Sector; individuals or households.

Estimated Number of Respondents: 649,880 respondents per year.

Estimated Number of Responses: 649,880 responses per year.

Estimated Time per Response: The USPTO estimates that the response time for activities related to the recording assignment process will take approximately 30 minutes (0.5 hours) to complete. This includes the time to gather the necessary information, create the document, and submit the completed item to the USPTO.

Estimated Total Annual Hour Burden: 324,941 hours.

Estimated Total Annual Cost Burden (Hourly): $88,708,893.

Table 1—Total Hourly Burden For Private Sector Respondents
Item No. | Item | Estimated annual respondents | Estimated annual responses (year) | Estimated time for response (hour) | Estimated annual burden (hours/year) | Rate ¹ ($/hour) | Estimated annual burden
|  |  | (a) | (b) | (a) × (b) = (c) | (d) | (c) × (d) = (e)
1 | Trademark Assignment System (ETAS) (PTO-1594) | 35,984 | 35,984 | 0.5 (30 minutes) | 17,992 | $273 | $4,911,816
2 | Patent Assignment System (EPAS) (PTO-1595) | 353,945 | 353,945 | 0.5 (30 minutes) | 176,973 | 273 | 48,313,629
Total |  | 389,929 | 389,929 |  | 194,965 |  | 53,225,445
¹ 2019 Report of the Economic Survey, published by the Committee on Economics of Legal Practice of the American Intellectual Property Law Association (AIPLA); https://www.aipla.org/detail/journal-issue/2019-report-of-the-economic-survey. The USPTO uses the mean rate for attorneys in private firms which is $400 per hour. The hourly rate for paraprofessional/paralegals is estimated at $145 from data published in the 2018 Utilization and Compensation Survey by the National Association of Legal Assistants (NALA); https://www.nala.org/paralegals/research-and-survey-findings. The USPTO estimates that the combined rate for respondents will be approximately $273 per hour.

Table 2—Total Hourly Burden For Individuals or Households Respondents
Item No. | Item | Estimated annual respondents | Estimated annual responses (year) | Estimated time for response (hour) | Estimated annual burden (hours/year) | Rate ² ($/hour) | Estimated annual burden
|  |  | (a) | (b) | (a) × (b) = (c) | (d) | (c) × (d) = (e)
1 | Trademark Assignment System (ETAS) (PTO-1594) | 23,989 | 23,989 | 0.5 (30 minutes) | 11,995 | $273 | $3,274,635
2 | Patent Assignment System (EPAS) (PTO-1595) | 235,962 | 235,962 | 0.5 (30 minutes) | 117,981 | 273 | 32,208,813
Total |  | 259,951 | 259,951 |  | 129,976 |  | 35,483,448
² 2019 Report of the Economic Survey, published by the Committee on Economics of Legal Practice of the American Intellectual Property Law Association (AIPLA); https://www.aipla.org/detail/journal-issue/2019-report-of-the-economic-survey. The USPTO uses the mean rate for attorneys in private firms which is $400 per hour. The hourly rate for paraprofessional/paralegals is estimated at $145 from data published in the 2018 Utilization and Compensation Survey by the National Association of Legal Assistants (NALA); https://www.nala.org/paralegals/research-and-survey-findings. The USPTO estimates that the combined rate for respondents will be approximately $273 per hour.

Estimated Total Annual Cost Burden (Non-Hourly): $3,968,076. This information collection has annual (non-hour) costs in the form of filing fees and postage costs.

Filing Fees

The filing fee for submitting a non-electronic patent assignment as indicated by 37 CFR 1.21(h) is $50 per property for recording each document, while the filing fee for submitting a trademark assignment as indicated by 37 CFR 2.6(b)(6) is $40.00 for recording the first property in a document and $25.00 for each additional property in the same document. The USPTO estimates that the average fee for a trademark assignment recordation request is approximately $65.00. Therefore, this information collection has an estimated total of $3,969,795 in filing fees per year.

Table 3—Filing Fees
Item No. | Item | Estimated annual responses | Estimated cost | Estimated non-hour cost burden
|  | (a) | (b) | (a) × (b) = (c)
1 | Patent Recordation Form Cover Sheet (PTO-1595) | 1,351 | $50 | $67,550
2 | Trademark Recordation Form Cover Sheet (PTO-1594) | 1,050 | 65 | 68,250
4 | Electronic Trademark Assignment System (ETAS) (PTO-1594) | 58,923 | 65 | 3,829,995
| Total |  |  | 3,965,795

Postage Costs

Customers may incur postage costs when submitting a patent or trademark assignment request to the USPTO by mail. The Patent and Trademark Recordation Cover Sheets can be submitted by mail, for a total of 2,401 mailed submissions. The average postage cost for a mailed Patent or Trademark Recordation Form Cover Sheet is $0.95, resulting in a total postage cost of $2,281 per year for this information collection.

IV. Request for Comments

The USPTO is soliciting public comments to:

(a) Evaluate whether the proposed collection of information is necessary for the proper performance of the functions of the Agency, including whether the information will have practical utility;

(b) Evaluate the accuracy of the Agency's estimate of the burden of the proposed collection of information, including the validity of the methodology and assumptions used;

(c) Enhance the quality, utility, and clarity of the information to be collected; and

(d) Minimize the burden of the collection of information on those who are to respond, including through the use of appropriate automated, electronic, mechanical, or other technological collection techniques or other forms of information technology, e.g., permitting electronic submission of responses.

All comments submitted in response to this notice are a matter of public record. USPTO will include or summarize each comment in the request to OMB to approve this information collection. Before including an address, phone number, email address, or other personal identifying information in a comment, be aware that the entire comment—including personal identifying information—may be made publicly available at any time. While you may ask in your comment to withhold personal identifying information from public view, USPTO cannot guarantee that it will be able to do so.

Kimberly Hardy,
Information Collections Officer, Office of the Chief Administrative Officer, United States Patent and Trademark Office.

[FR Doc. 2021-07854 Filed 4-15-21; 8:45 am]

BILLING CODE 3510-16-P